DEPARTMENT OF TRANSPORTATION

Federal Aviation Administration

14 CFR Part 39

[Docket No. FAA-2005-22146; Directorate Identifier 2002-NM-184-AD; Amendment 39-14606; AD 2006-11-02]

RIN 2120-AA64

Airworthiness Directives; Viking Air Limited Model DHC-7 Airplanes

AGENCY: Federal Aviation Administration (FAA), Department of Transportation (DOT).

ACTION: Final rule.

SUMMARY: The FAA is adopting a new airworthiness directive (AD) for all Viking Air Limited Model DHC-7 airplanes. This AD requires implementing a corrosion prevention and control program (CPCP) either by accomplishing specific tasks or by revising the maintenance inspection program to include a CPCP. This AD results from a determination that, as airplanes age, they are more likely to exhibit indications of corrosion. We are issuing this AD to prevent structural failure of the airplane due to corrosion.

DATES: This AD becomes effective June 27, 2006.

The Director of the Federal Register approved the incorporation by reference of a certain publication listed in the AD as of June 27, 2006.

ADDRESSES: You may examine the AD docket on the Internet at http://dms.dot.gov or in person at the Docket Management Facility, U.S. Department of Transportation, 400 Seventh Street, SW., Nassif Building, Room PL-401, Washington, DC.

Contact Viking Air Limited, 9574 Hampden Road, Sidney, British Columbia V8L 5V5, Canada, for service information identified in this AD.

FOR FURTHER INFORMATION CONTACT: Jon Hjelm, Aerospace Engineer, Airframe and Propulsion Branch, ANE-171, FAA, New York Aircraft Certification Office, 1600 Stewart Avenue, Suite 410, Westbury, New York 11590; telephone (516) 228-7323; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to all Bombardier Model DHC-7 airplanes. That supplemental NPRM was published in the Federal Register on March 27, 2006 (71 FR 15063). That supplemental NPRM proposed to require implementing a corrosion prevention and control program (CPCP) either by accomplishing specific tasks or by revising the maintenance inspection program to include a CPCP.

Comments

We provided the public the opportunity to participate in the development of this AD. No comments have been received on the supplemental NPRM or on the determination of the cost to the public.

Explanation of Changes to the Supplemental NPRM

We have revised the applicability of the supplemental NPRM to identify model designations as published in the most recent type certificate data sheet for the affected models.

We have also revised the contact name/address for the service information to that of the current type certificate holder.

Conclusion

We have carefully reviewed the available data and determined that air safety and the public interest require adopting the AD with the changes described previously. We have determined that these changes will neither increase the economic burden on any operator nor increase the scope of the AD.

Costs of Compliance

This AD will affect about 26 airplanes of U.S. registry. The 148 specific inspections specified in the de Havilland Dash 7, Corrosion Prevention and Control Manual, Product Support Manual (PSM) 1-7-5, dated May 13, 1997, will take about 48 work hours per airplane, per inspection cycle, at an average labor rate of $65 per work hour. Based on these figures, the estimated cost of the AD for U.S. operators is $81,120, or $3,120 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-11-02 Viking Air Limited (Formerly Bombardier, Inc.): Amendment 39-14606. Docket No. FAA-2005-22146; Directorate Identifier 2002-NM-184-AD.

Effective Date

(a) This AD becomes effective June 27, 2006.

Affected ADs

(b) None.

Applicability

(c) This AD applies to all Viking Air Limited Model DHC-7-1, DHC-7-100, DHC-7-101, DHC-7-102, and DHC-7-103 airplanes, certificated in any category.

Unsafe Condition

(d) This AD results from a determination that, as airplanes age, they are more likely to exhibit indications of corrosion. We are issuing this AD to prevent structural failure of the airplane due to corrosion.

Compliance

(e) You are responsible for having the actions required by this AD performed within the compliance times specified, unless the actions have already been done.

Manual References

(f) The term “the Manual,” as used in this AD, means the de Havilland Dash 7, Corrosion Prevention and Control Manual, Product Support Manual (PSM) 1-7-5, dated May 13, 1997.

Approval of Information Collection Requirements

(g) Information collection requirements in paragraphs (l) and (m) of this AD are approved by the Office of Management and Budget (OMB) under the provisions of the Paperwork Reduction Act of 1980 (44 U.S.C. 3501 et seq.) and are assigned OMB Control Number 2120-0056.

Initial Inspections

(h) Within 12 months after the effective date of this AD, perform each of the Corrosion Tasks, including re-protection actions, as applicable, specified in Part 3 of the Manual by accomplishing the basic tasks defined in Parts 2 and 3 of the Manual, in accordance with the procedures of the Manual.

Repetitive Inspections

(i) Except as provided by paragraph (j) of this AD, repeat each of the Corrosion Tasks, and re-protection actions, as applicable, specified in Part 3 of the Manual at intervals not to exceed 3 or 6 years, as specified in Part 3 of the Manual.

(j) After accomplishment of each initial Corrosion Task required by paragraph (h) of this AD, the FAA may approve the incorporation into the operator's approved maintenance/inspection program of the Corrosion Prevention and Control Program (CPCP) specified in the Manual and this AD; or an equivalent program that is approved by the FAA. In all cases, the initial Corrosion Task for each airplane area must be completed at the compliance time specified in paragraph (h) of this AD.

(1) Any operator complying with paragraph (j) of this AD may use an alternative recordkeeping method to that otherwise required by section 91.417 (“Maintenance records”) or section 121.380 (“Maintenance recording requirements”) of the Federal Aviation Regulations (14 CFR 91.417 or 14 CFR 121.380, respectively) for the actions required by this AD, provided that the recordkeeping method is approved by the FAA and is included in a revision to the FAA-approved maintenance/inspection program. For the purposes of this paragraph, the FAA is defined as the cognizant Flight Standards District Office.

(2) After the initial accomplishment of the Corrosion Tasks required by paragraph (h) of this AD, any extension of the repetitive intervals specified in the Manual must be approved by the FAA. For the purposes of this paragraph, the FAA is defined as the Manager, New York Aircraft Certification Office (ACO), FAA.

Corrective Actions

(k) If any corrosion is found during accomplishment of any action required by paragraph (h) or (i) of this AD: Within 30 days after the finding; rework, repair, or replace, as applicable, any subject part, in accordance with Section 4.0 of Part 3 of the Manual.

Reporting Requirements and Repetitive Actions for Remainder of Affected Fleet

(l) If any Level 3 corrosion, as defined in the Introduction of the Manual, is found during accomplishment of any action required by this AD: Do paragraphs (l)(1), (l)(2), and (l)(3) of this AD.

(1) Within 10 days after the finding of Level 3 corrosion, submit a report of the findings to the Manager, New York Aircraft Certification Office (ACO), FAA, 1600 Stewart Avenue, suite 410, Westbury, New York 11590; fax (516) 794-5531. The report must follow the format specified in Section 5.0 of Part 3 of the Manual, or be submitted using a Service Difficulty Report, as applicable.

(2) Within 10 days after the finding of Level 3 corrosion, submit a plan to the FAA to identify a schedule for accomplishing the applicable Corrosion Task on the remainder of the airplanes in the operator's fleet that are subject to this AD, or data substantiating that the Level 3 corrosion that was found is an isolated case. The FAA may impose a schedule other than proposed in the plan upon finding that a change to the schedule is needed to ensure that any other Level 3 corrosion is detected in a timely manner. For the purposes of this paragraph, the FAA is defined as the cognizant Principal Maintenance Inspector (PMI) for operators that are assigned a PMI (e.g., part 121, 125, and 135 operators), and the cognizant Flight Standards District Office for other operators (e.g., part 91 operators).

(3) Within the time schedule approved in accordance with paragraph (l)(2) of this AD, accomplish the applicable Corrosion Task on the remainder of the airplanes in the operator's fleet that are subject to this AD.

(m) If any Level 2 or 3 corrosion, as defined in the Introduction of the Manual, is found during accomplishment of any action required by this AD: At the applicable time specified in Section 5.0 of Part 3 of the Manual, report these findings to the manufacturer according to Section 5.0 of Part 3 of the Manual.

Limiting Future Corrosion Findings

(n) If corrosion findings that exceed Level 1 are found in any area during any repeat of any Corrosion Task after the initial accomplishment required by paragraph (h) of this AD: Within 60 days after such finding, implement a means approved by the FAA to reduce future findings of corrosion in that area to Level 1 or better. For the purposes of this paragraph, the FAA is defined as the cognizant Principal Maintenance Inspector (PMI) for operators that are assigned a PMI (e.g., part 121, 125, and 135 operators), and the cognizant Flight Standards District Office for other operators (e.g., part 91 operators).

Scheduling Corrosion Tasks for Transferred Airplanes

(o) Before any airplane subject to this AD is transferred and placed into service by an operator: Establish a schedule for accomplishing the Corrosion Tasks required by this AD in accordance with paragraph (o)(1) or (o)(2) of this AD, as applicable.

(1) For airplanes on which the Corrosion Tasks required by this AD have been accomplished previously at the schedule established by this AD: Perform the first Corrosion Task in each area in accordance with the previous operator's schedule, or in accordance with the new operator's schedule, whichever results in an earlier accomplishment of that Corrosion Task. After the initial accomplishment of each Corrosion Task in each area as required by this paragraph, repeat each Corrosion Task in accordance with the new operator's schedule.

(2) For airplanes on which the Corrosion Tasks required by this AD have not been accomplished previously, or have not been accomplished at the schedule established by this AD: The new operator must perform the initial accomplishment of each Corrosion Task in each area before further flight or in accordance with a schedule approved by the FAA. For the purposes of this paragraph, the FAA is defined as the cognizant PMI for operators that are assigned a PMI (e.g., part 121, 125, and 135 operators), and the cognizant Flight Standards District Office for other operators (e.g., part 91 operators).

Alternative Methods of Compliance (AMOCs)

(p)(1) The Manager, New York ACO, has the authority to approve AMOCs for this AD, if requested using the procedures found in 14 CFR 39.19.

(2) Before using any AMOC approved in accordance with 14 CFR 39.19 on any airplane to which the AMOC applies, notify the appropriate principal inspector in the FAA Flight Standards Certificate Holding District Office.

Related Information

(q) Canadian airworthiness directive CF-98-03, dated February 27, 1998, also addresses the subject of this AD.

Material Incorporated by Reference

(r) You must use de Havilland Dash 7, Corrosion Prevention and Control Manual, Product Support Manual 1-7-5, dated May 13, 1997, to perform the actions that are required by this AD, unless the AD specifies otherwise. The Director of the Federal Register approved the incorporation by reference of this document in accordance with 5 U.S.C. 552(a) and 1 CFR part 51. (Page number 64 containing Figure 21 is actually the 66th page of the document; the page number is incorrect.) Contact Viking Air Limited, 9574 Hampden Road, Sidney, British Columbia V8L 5V5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 15, 2006.
Kevin M. Mullin,
Acting Manager, Transport Airplane Directorate, Aircraft Certification Service.

[FR Doc. 06-4677 Filed 5-22-06; 8:45 am]

BILLING CODE 4910-13-P